DEPARTMENT OF THE INTERIOR

Bureau of Land Management

[CA-190-05-1610-DT]

Notice of Availability of Proposed Plan Amendment and Final Environmental Impact Statement

AGENCY: Bureau of Land Management, Interior.

ACTION: Notice of availability.

SUMMARY: In accordance with the National Environmental Policy Act of 1969 and the Federal Land Policy and Management Act of 1976, the Bureau of Land Management (BLM) has prepared a proposed Resource Management Plan Amendment (RMPA) and Final Environmental Impact Statement (EIS) for the Clear Creek Management Area (CCMA).

DATES: For decisions being considered that would amend the existing plan decisions, BLM Planning Regulations (43 CFR 1610.5-2) state that any person who participated in the planning process, and has an interest that may be adversely affected, may protest. The protest must be filed within 30 days of the date that the Environmental Protection Agency publishes its notice of receipt of the Final EIS for the CCMA in the Federal Register. Instructions for filing of protests are described in the front cover of the Proposed RMPA and Final EIS for the CCMA and included in the SUPPLEMENTARY INFORMATION section of this notice. Decisions that make designations on individual routes are not protestable, but are appealable to the Interior Board of Land Appeals under 43 CFR part 4 upon adoption of a Record of Decision.

FOR FURTHER INFORMATION CONTACT: George Hill, (831) 630-5000.

SUPPLEMENTARY INFORMATION: This planning project considers designating a route network and off-highway vehicle (OHV) area designations (open, limited, closed) for serpentine barren areas (soils devoid of vegetation) and the designation of expanded boundaries for the San Benito Mountain Research Natural Area (SBMRNA), an Area of Critical Environmental Concern (ACEC) in the CCMA. The planning area is approximately 75,000 acres located in San Benito and Fresno Counties, California and is managed by the (BLM) Hollister Field Office. The area is currently managed according to the CCMA RMPA, as adopted in 1999.

The Proposed Action contained in the Proposed RMPA and Final EIS for the CCMA contains the following proposed decisions: Designations for OHV use on the routes currently inventoried and assessed by the BLM; adoption of route designation and area designation criteria for serpentine barren areas; and designation of an expanded boundary and interim management for the SBMRNA. The Draft RMPA and Draft EIS for the CCMA was published in May 2004. BLM accepted public comment on the Draft EIS from July 16 through November 15 of 2004. Comments received from the public during the review period and comments from internal BLM review are incorporated into the Final EIS. Public comments resulted in the addition of clarifying text, but did not significantly change the proposed decisions. Copies of the Proposed RMPA and Final EIS for the CCMA have been sent to affected Federal, State, and local government agencies and to interested parties. Copies of the document are also available for public inspection at: BLM Hollister Field Office, 20 Hamilton Court, Hollister, CA; and BLM California State Office, 2800 Cottage Way, Sacramento, CA. Instructions for filing a protest with the Director of the BLM regarding the Proposed Plan/Final EIS may be found at 43 CFR 1610.5. A protest may only raise those issues with plan-level decisions that were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at (202) 452-5112, and e-mails to Brenda_Hudgens-Williams@blm.gov.

Please direct the follow-up letter to the appropriate address provided below. The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the State Director's decision is wrong.

All protests must be in writing and mailed to the following address:

Regular Mail: Director (210), Attention: Brenda Williams, P.O. Box 66538, Washington, DC 20035.

Overnight Mail: Director (210), Attention: Brenda Williams, 1620 L Street, NW., Suite 1075, Washington, DC 20036.

The Director will promptly render a decision on the protest. The decision will be in writing and will be sent to the protesting party by certified mail, return receipt requested. The decision of the Director shall be the final decision of the Department of the Interior.

Dated: July 14, 2005.
Robert Beehler,
Hollister Field Office Manager.

[FR Doc. 05-19588 Filed 9-29-05; 8:45 am]

BILLING CODE 4310-40-P